DEPARTMENT OF DEFENSE

Department of the Navy

Information on Surplus Land at Former Naval Air Station, Brunswick, ME

AGENCY: Department of the Navy, DoD.

ACTION: Notice.

SUMMARY: This amended notice provides information regarding additional surplus property at the former Naval Air Station (NAS), Brunswick, ME, in accordance with the Defense Base Closure and Realignment Act of 1990, Public Law 101-510, as amended, and the 2005 Base Closure and Realignment Commission Report, as approved, and subsequent screening with Federal agencies and Department of Defense components. This Notice amends the Notice published in the Federal Register on February 16, 2007 (72 FR 7624, FR Doc. E7-2762)).

DATES: Effective February 7, 2013, by updating the acreage and contact information as indicated below for the following surplus property.

FOR FURTHER INFORMATION CONTACT: Ms. Laura Duchnak, Director, Base Realignment and Closure Program Management Office, 1455 Frazee Road, San Diego, CA 92108-4310, telephone 619-532-0993. For information regarding the specific property below, contact Mr. Gregory Preston, Deputy Director, Base Realignment and Closure Program Management Office, Northeast, 4911 South Broad Street, Philadelphia, PA 19112-1303, telephone 215-897-4910.

SUPPLEMENTARY INFORMATION: Under the provisions of the Federal Property and Administrative Services Act of 1949, as amended, the Defense Base Closure and Realignment Act of 1990, Public Law 101-510, as amended, and other public benefit conveyance authorities, this surplus property may be available for conveyance to State and local governments and other eligible entities for public benefit purposes. Notices of interest from representatives of the homeless, and other interested parties located in the vicinity of any listed surplus property should be submitted to the recognized Local Redevelopment Authority (LRA).

Surplus Property Description. The additional property that is surplus to the needs of the Federal Government consists of approximately 10 acres of land and facilities at the former NAS Brunswick. The land and facilities were formerly requested by the Federal Aviation Administration, and it had subsequently withdrawn its interest in this property. The surplus property is comprised of the following three non-contiguous land parcels and improvements. All aviation-related equipment associated with these parcels has been removed for reuse by the Department of the Navy.

(1) Radar Approach Control Parcel: 5.74 acres. Comments: Air Traffic Control Tower building containing approximately 15,661 square feet, Paved areas (roads and pavements), and Utilities.

(2) Transmitter Parcel: 3.01 acres. Comments: Transmitter building containing approximately 974 square feet, and Generator building containing approximately 160 square feet, Paved areas (roads), and Utilities.

(3) Radar Parcel: 0.92 acres. Comments: Radar ASR-8 building containing approximately 480 square feet, Paved areas (roads), and Utilities.

The Midcoast Regional Redevelopment Authority has been recognized as the LRA. The LRA is located at 2 Pegasus Street, Suite 1, Unit 200, Brunswick, ME 04011. The LRA's point of contact is Mr. Steven Levesque, Executive Director at 207-798-6512.

Dated: February 12, 2013.
C.K. Chiappetta,
Lieutenant Commander, Office of the Judge Advocate General, U.S. Navy, Federal Register Liaison Officer.

[FR Doc. 2013-03848 Filed 2-20-13; 8:45 am]

BILLING CODE 3810-FF-P